DEPARTMENT OF JUSTICE

Notice of Lodging of Proposed Consent Decree Under the Clean Water Act

Notice is hereby given that on February 17, 2012, a proposed Consent Decree in In Re: Oil Spill by the Oil Rig “Deepwater Horizon” in the Gulf of Mexico, on April 20, 2010, MDL 2179, was lodged with the United States District Court for the Eastern District of Louisiana.

In this action the United States sought, in part, civil penalties under Section 311(b) of the Clean Water Act, 33 U.S.C. 1321(b), against multiple parties, including MOEX Offshore 2007 LLC (“MOEX”), in connection with the discharge of oil into the Gulf of Mexico resulting from the April 20, 2010 blowout of the Macondo well and explosion of the Deepwater Horizon oil rig. The Complaint alleges that MOEX is liable for civil penalties as a co-lessee of the Macondo well and as co-owner of the well casing and equipment. Pursuant to the proposed Consent Decree, MOEX will pay $70 million in civil penalties, of which $45 million will go to the United States and the remaining $25 million will be divided among the states of Louisiana, Alabama, Florida, Mississippi and Texas. The proposed Consent Decree also requires MOEX to perform supplemental environmental projects valued at $20 million in the Gulf States proximate to the Gulf of Mexico. The proposed Consent Decree does not resolve all claims in the Complaint alleged against MOEX, nor does it resolve claims alleged in the Complaint against other parties.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to In Re: Oil Spill by the Oil Rig “Deepwater Horizon” in the Gulf of Mexico, on April 20, 2010, MDL 2179, D.J. Ref. 90-5-1-1-10026. During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $13.00 (25 cents per page reproduction cost) payable to the U.S. Treasury or, if requesting by fax, forward a check in that amount to the Consent Decree Library at the address given above.

Maureen M. Katz,
Assistant Chief, Environmental Enforcement Section, Environment and Natural Resources Division.

[FR Doc. 2012-4368 Filed 2-23-12; 8:45 am]

BILLING CODE 4410-15-P